DEPARTMENT OF ENERGY

Federal Energy Regulatory Commission

[Docket No. RP03-462-000]

Granite State Gas Transmission Company; Notice of Proposed Changes in FERC Gas Tariff

May 7, 2003.

Take notice that on May 1, 2003, Granite State Gas Transmission Company (Granite State) tendered for filing to its FERC Gas Tariff, Third Revised Volume No.1, First Revised Sheet No. 309A, bearing a proposed effective date of June 1, 2003.

Granite State states that it is submitting this filing to incorporate into its tariff the Commission's pronouncements in Tenaska Marketing Ventures v. Northern Border Pipeline Company, 99 FERC ¶ 61,182 (2002) (Tenaska), and to clarify the treatment in limited situations in which a replacement shipper's service agreement may be terminated when the associated primary contract (i.e. the releasing shipper's contract) has been terminated. Granite State states that in Tenaska, the Commission clarified that unless the pipeline's tariff explicitly provides for termination, a capacity release contract will remain in force following termination of the underlying contract through which the released capacity was made available.

Granite State states that copies of its filing have been mailed to all firm customers, interruptible customers, and affected state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 13, 2003.

Magalie R. Salas,
Secretary.

[FR Doc. 03-11934 Filed 5-12-03; 8:45 am]

BILLING CODE 6717-01-P